DEPARTMENT OF TRANSPORTATION

Federal Aviation Administration

14 CFR Part 39

[Docket No. FAA-2012-0845; Directorate Identifier 2012-CE-013-AD; Amendment 39-17431; AD 2013-08-14]

RIN 2120-AA64

Airworthiness Directives; Revo, Incorporated Airplanes

AGENCY: Federal Aviation Administration (FAA), DOT.

ACTION: Final rule.

SUMMARY: We are superseding an existing airworthiness directive (AD) for certain Revo, Incorporated Models COLONIAL C-1, COLONIAL C-2, LAKE LA-4, LAKE LA-4A, LAKE LA-4P, and LAKE LA-4-200 airplanes. That AD currently requires a one-time, dye-penetrant inspection of the horizontal stabilizer attachment fitting and repetitive visual inspections of the fitting for any evidence of fretting, cracking, or corrosion (with necessary replacement and modification); replacement of the fitting upon reaching the 850-hours time-in-service (TIS) safe life; and reporting to the FAA the results of the initial inspection and any cracks found on repetitive inspections. This new AD requires the same actions of AD 2005-12-02 except using revised service documents and procedures, adds Model COLONIAL C-1 airplanes to the Applicability, and adds an optional terminating action for the requirements. This AD was prompted by a report from Revo, Incorporated that, while the drawing numbers are different, the attachment fittings on the Model COLONIAL C-1 airplanes are identical in every other respect to those installed on the airplanes referenced in AD 2005-12-02. We are issuing this AD to correct the unsafe condition on these products.

DATES: This AD is effective June 13, 2013.

The Director of the Federal Register approved the incorporation by reference of certain publications listed in the AD as of June 13, 2013.

The Director of the Federal Register approved the incorporation by reference of a certain other publication listed in the AD as of July 8, 2005 (70 FR 33820, June 10, 2005).

ADDRESSES: For service information identified in this AD, contact Revo, Incorporated, 1396 Grandview Boulevard, Kissimmee, FL 34744; telephone: (407) 847-8080; email: support@teamlake.com; Lake Central Air Services, Muskoka Airport, R. R. #1, Gravenhurst, Ontario, Canada P1P 1R1; telephone: (705) 687-4343; email: akecent@muskoka.com; Internet: www.lakecentral.com; and Robert L. Copeland (XLS Co., LLC), 418B Bartow Municipal Airport, Bartow, FL 33830; FAA Aerospace Engineer (Hal Horsburgh), telephone: (404) 474-5553. You may review copies of the referenced service information at the FAA, Small Airplane Directorate, 901 Locust St., Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Hal Horsburgh, Aerospace Engineer, Atlanta Aircraft Certification Office, FAA, 1701 Columbia Avenue, College Park, Georgia 30337; phone: (404) 474-5553; fax: (404) 474-5606; email: hal.horsburgh@faa.gov.

SUPPLEMENTARY INFORMATION:

Discussion

We issued a notice of proposed rulemaking (NPRM) to amend 14 CFR part 39 to supersede AD 2005-12-02, amendment 39-14118 (70 FR 33820, June 10, 2005). That AD applies to the specified products. The NPRM published in the Federal Register on August 16, 2012 (77 FR 49389). That NPRM proposed to require the same actions of AD 2005-12-02, add Model COLONIAL C-1 airplanes to the Applicability, and add an optional terminating action for the requirements.

Comments

We gave the public the opportunity to participate in developing this AD. We received no comments on the NPRM (77 FR 49389, August 16, 2012) or on the determination of the cost to the public.

We did notice that the date for XLS Company's instructions for continued airworthiness was incorrect. We also identified the need to clarify giving credit for work done following previous service documents and procedures so the actions would not be unnecessarily duplicated.

Conclusion

We reviewed the relevant data and determined that air safety and the public interest require adopting the AD as proposed except for a typographical error in the date for XLS Company's instructions for continued airworthiness, clarification of credit allowed for work done following previous service documents and procedures, and minor editorial changes. We have determined that these minor changes:

• Are consistent with the intent that was proposed in the NPRM (August 16, 2012, 77 FR 49389) for correcting the unsafe condition; and

• Do not add any additional burden upon the public than was already proposed in the NPRM (August 16, 2012, 77 FR 49389).

Costs of Compliance

We estimate that this AD affects 253 airplanes of U.S. registry.

We estimate the following costs to comply with this AD:

Estimated Costs
Action | Labor cost | Parts cost | Cost per product | Cost on U.S. operators
Inspect the horizontal stabilizer attachment fitting | 24 work-hours × $85 per hour = $2,040 | Not Applicable | $2,040 | $516,120
Measure the gap between the horizontal skin and the horizontal stabilizer attachment fitting; trim the skin to provide gap | 1 work-hour × $85 per hour = $85 | Not Applicable | 85 | 21,505

We estimate the following costs to do any necessary replacement that will be required based on the results of the inspection. We have no way of determining the number of aircraft that might need these replacements:

On-Condition Costs
Action | Labor cost | Parts cost | Cost per product
Replace the horizontal stabilizer attachment fitting | 24 work-hours × $85 per hour = $2,040 | $761 | $2,801

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2005-12-02, Amendment 39-10524 (70 FR 33820, June 10, 2005), and adding the following new AD:

2013-08-14 Revo, Incorporated: Amendment 39-17431; Docket No. FAA-2012-0845; Directorate Identifier 2012-CE-013-AD.

(a) Effective Date

This airworthiness directive (AD) is effective June 13, 2013.

(b) Affected ADs

This AD supersedes AD 2005-12-02, Amendment 39-10524 (70 FR 33820, June 10, 2005).

(c) Applicability

This AD applies to the following Revo, Incorporated Models COLONIAL C-1, COLONIAL C-2, LAKE LA-4, LAKE LA-4A, LAKE LA-4P, and LAKE LA-4-200 airplanes, all serial numbers, that are certificated in any category, and have horizontal stabilizer attachment fittings part number (P/N) 1-2200-14, 2200-14, or 2-2200-21 installed.

(d) Subject

Joint Aircraft System Component (JASC)/Air Transport Association (ATA) of America Code 55: Stabilizers.

(e) Unsafe Condition

This AD was prompted by information from Revo, Incorporated that while the drawing numbers are different, the attachment fittings on the Model COLONIAL C-1 airplanes are identical in every other respect to those installed on the airplanes referenced in AD 2005-12-02 (70 FR 33820, June 10, 2005). We are issuing this AD to require the same actions of AD 2005-12-02, add the Model COLONIAL C-1 airplanes to the Applicability, and add an optional terminating action for the requirements. We are adopting this AD to correct the unsafe condition on these products.

(f) Compliance

Comply with this AD within the compliance times specified, unless already done.

(g) Credit for Actions Done Following Previous Service Information

(1) This AD provides credit for the actions in paragraph (h)(1) of this AD, if the dye penetrant inspection was done before the effective date of this AD, following Revo Inc. Service Bulletin B-78 R2, Revision 2, dated October 26, 2011; Revo Inc. Service Bulletin B-78 R1, Revision 1, dated July 26, 2005; or Revo Inc. Service Bulletin B-78, dated April 3, 1998. However; the horizontal stabilizer attachment fitting must have been removed from the airplane during the inspection.

(2) This AD provides credit for the actions in paragraphs (h)(2) and (j)(1) of this AD, if the horizontal stabilizer attachment fitting has been replaced before the effective date of this AD, following Revo Inc. Service Bulletin B-78 R2, Revision 2, dated October 26, 2011; Revo Inc. Service Bulletin B-78 R1, Revision 1, dated July 26, 2005; or Revo Inc. Service Bulletin B-78, dated April 3, 1998.

(h) Dye Penetrant Inspection on the Horizontal Stabilizer Attachment Fitting

(1) For airplanes with less than 825 hours time-in-service (TIS) on any horizontal stabilizer attachment fitting: Remove the horizontal stabilizer attachment (P/N 1-2200-14, 2200-14, or 2-2200-21) from the airplane and do a one-time dye-penetrant inspection for cracks, fretting, or corrosion using the applicable compliance times and service information stated below.

(i) For COLONIAL C-2, LAKE LA-4, LAKE LA-4A, LAKE LA-4P, and LAKE LA-4-200 airplanes: Within the next 25 hours TIS after July 8, 2005 (the effective date of AD 2005-12-02 (70 FR 33820, June 10, 2005)). Follow Revo Inc. Service Bulletin B-78 R3, Revision 3, dated January 10, 2012; Revo Inc. Service Bulletin B-78 R2, Revision 2, dated October 26, 2011; Revo Inc. Service Bulletin B-78 R1, Revision 1, dated July 26, 2005; or Revo Inc. Service Bulletin B-78, dated April 3, 1998 (which was incorporated by reference in AD 2005-12-02 and is retained in this AD).

(ii) For COLONIAL C-1 airplanes: Within the next 25 hours TIS after June 13, 2013 (the effective date of this AD). Follow Revo Inc. Service Bulletin B-78 R3, Revision 3, dated January 10, 2012.

(2) If cracks, fretting, or corrosion is found during the inspection required in paragraph (h)(1) of this AD, before further flight, replace the horizontal stabilizer attachment with an airworthy P/N 2-2200-21, P/N 1-2200-14, or 2200-14 following Revo Inc. Service Bulletin B-78 R3, Revision 3, dated January 10, 2012. After replacement with an airworthy part, the repetitive inspections specified in paragraph (i) of this AD and the repetitive replacements specified in paragraph (j) of this AD are still required.

(3) For the purposes of this AD, an airworthy part is defined as a new part or a used part that has less than 850 hours TIS and has been inspected following paragraph (h)(1) of this AD and found free of cracks, fretting, or corrosion before installation.

(i) Repetitive Inspections of the Horizontal Stabilizer Attachment Fitting

(1) Within 50 hours TIS or 12 months, whichever occurs first, after the dye-penetrant inspection required in paragraph (h)(1) of this AD or after replacement of the fitting required in paragraphs (h)(2), (i)(2), or (j) of this AD and repetitively thereafter at intervals not to exceed 50 hours TIS or 12 months, whichever occurs first, visually inspect the horizontal stabilizer attachment fitting using the following procedures:

(i) Move the elevator as required to see the fitting, ensuring that the aft face of the fitting is visible.

(ii) Clean the fitting. Pay special attention to the radius edges of the fitting just outboard of the fitting ear.

(iii) Visually inspect the fitting for cracks using a flashlight (a small magnifying glass or borescope is recommended). Pay special attention again to the radius edges just outboard of the fitting ear. Also, inspect as far forward on the edge that is possible because some cracks progress along the forward face of the fitting that is mostly hidden by the horizontal stabilizer rear beam.

(iv) Reference the sketch on page 1 of Revo Inc. Service Bulletin B-78 R3, Revision 3, dated January 10, 2012, to see where the crack is likely to begin.

(2) If any cracks are found during any of the inspections required in paragraph (i) of this AD, before further flight, replace the fitting with an airworthy part following Revo Inc. Service Bulletin B-78 R3, Revision 3, dated January 10, 2012.

(3) For the purposes of this AD, an airworthy part is defined as a new part or a used part that has less than 850 hours TIS and has been inspected following paragraph (h)(1) of this AD and found free of cracks, fretting, or corrosion before installation.

(j) Replace the Horizontal Stabilizer Attachment Fitting

(1) For COLONIAL C-2, LAKE LA-4, LAKE LA-4A, LAKE LA-4P, and LAKE LA-4-200 airplanes: Before or when the horizontal stabilizer attachment fitting accumulates 850 hours TIS or within 25 hours TIS after July 8, 2005 (the effective date of AD 2005-12-02 (70 FR 33820, June 10, 2005)), whichever occurs later, and repetitively thereafter at intervals not to exceed 850 hours TIS replace the horizontal stabilizer attachment fitting P/N 1-2200-14, 2200-14, or 2-2200-21 with an airworthy part. Follow Revo Inc. Service Bulletin B-78 R3, Revision 3, dated January 10, 2012; Revo Inc. Service Bulletin B-78 R2, Revision 2, dated October 26, 2011; Revo Inc. Service Bulletin B-78 R1, Revision 1, dated July 26, 2005; or Revo Inc. Service Bulletin B-78, dated April 3, 1998 (which was incorporated by reference in AD 2005-12-02 and is retained in this AD).

(2) For COLONIAL C-1 airplanes: Before or when the horizontal stabilizer attachment fitting accumulates 850 hours TIS or within 25 hours TIS after June 13, 2013 (the effective date of this AD), whichever occurs later, and repetitively thereafter at intervals not to exceed 850 hours TIS replace the horizontal stabilizer attachment fitting P/N 1-2200-14, 2200-14, or 2-2200-21 with an airworthy part following Revo Inc. Service Bulletin B-78 R3, Revision 3, dated January 10, 2012.

(3) For the purposes of this AD, an airworthy part is defined as a new part or a used part that has less than 850 hours TIS and has been inspected following paragraph (h)(1) of this AD and found free of cracks, fretting, or corrosion before installation.

(k) Optional Terminating Action

You may at any time install the following supplemental type certificates (STC) to terminate the requirements of this AD; however, the actions required by the limitations section in the instructions for continued airworthiness for the STCs still apply:

(1) Lake Central Aircraft Services Lake Amphibian stabilizer fitting (STC SA02153NY) (http://rgl.faa.gov/Regulatory_and_Guidance_Library/rgstc.nsf/0/1dae07f8e33da91486257093004f73b8/$FILE/SA02153NY.pdf) following Lake Central Aircraft Services Lake Amphibian Stabilizer Fitting LC-2200-21 Installation Instructions, Rev B, dated August 26, 2005; and Lake Central Air Services Stabilizer Fitting LC-2200-21 Maintenance Manual Supplement Document MS-LC-2200-21, Rev B, dated August 26, 2005; or

(2) Robert L. Copeland (XLS Co., LLC) horizontal stabilizer support fitting system (STC SA03217AT) (http://rgl.faa.gov/Regulatory_and_Guidance_Library/rgstc.nsf/0/93cfc6dba1fdeadb862571080056c0c2/$FILE/SA03217AT.pdf) following XLS Company, LLC Report XLS-2-2200-21-500, Installation Instructions for XLS Co., LLC Horizontal Stabilizer Support Fitting System for Colonial C-1, Colonial C-2, Lake LA-4, Lake LA-4A, Lake-4P, and Lake LA-4-200 Aircraft, Revision B, dated November 18, 2005; and XLS Company, LLC Report XLS-2-2200-21-ICA, Instructions for Continued Airworthiness for XLS Co., LLC Horizontal Stabilizer Support Fitting System for Colonial C-1, Colonial C-2, Lake LA-4, Lake LA-4A, Lake-4P, and Lake LA-4-200 Aircraft, dated October 15, 2005.

Note 1 to paragraph (k)(2) of this AD: New parts are not currently available for STC SA03217AT (http://rgl.faa.gov/Regulatory_and_Guidance_Library/rgstc.nsf/0/93cfc6dba1fdeadb862571080056c0c2/$FILE/SA03217AT.pdf); however, the STC number has been included here if the parts become available later.

(l) Measure the Gap Between the Horizontal Skin and the Horizontal Stabilizer Attachment Fitting; Trim the Skin to Provide Gap

(1) Measure the gap between the horizontal skin and the horizontal stabilizer attachment fitting (P/N 1-2200-14, 2200-14, or 2-2200-21). If gap is less than 1/16 inch, trim the skin to provide at least 1/16 inch gap.

(2) After any replacement of the fitting required by paragraphs (h)(2), (i)(2), or (j) of this AD, before further flight, do the actions in paragraph (l)(1) of this AD.

(m) Report the Results of the Initial Inspection

Using the form in Appendix 1 of this AD, report the results of the inspections required in paragraphs (h) and (i) of this AD. Send the results to the FAA using the following contact information: Hal Horsburgh, FAA Atlanta Aircraft Certification Office (ACO), 1701 Columbia Ave., College Park, GA 30337; fax (404) 474-5606; or email: hal.horsburgh@faa.gov. Send the results within the following compliance times:

(1) Within 30 days after the inspection required in paragraph (h)(1) of this AD even if no damage is found.

(2) Within 30 days after any inspection required by paragraph (i) of this AD if cracks are found.

(n) Special Flight Permit

Special flight permits are allowed for this AD with these limitations:

(1) Vne reduced to 121 m.p.h. (105 knots); and

(2) No flight into known turbulence.

(o) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(p) Alternative Methods of Compliance (AMOCs)

(1) The Manager, Atlanta ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(3) AMOCs approved for AD 2005-12-02 (70 FR 33820, June 10, 2005) are approved as AMOCs for this AD.

(q) Related Information

For more information about this AD, contact Hal Horsburgh, Aerospace Engineer, Atlanta ACO, FAA, 1701 Columbia Avenue, College Park, Georgia 30337; phone: (404) 474-5553; fax: (404) 474-5606; email: hal.horsburgh@faa.gov.

(r) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on June 13, 2013.

(i) Revo Inc. Service Bulletin B-78 R3, Revision 3, dated January 10, 2012;

(ii) Revo Inc. Service Bulletin B-78 R2, Revision 2, dated October 26, 2011;

(iii) Revo Inc. Service Bulletin B-78 R1, Revision 1, dated July 26, 2005;

(iv) Lake Central Aircraft Services Lake Amphibian Stabilizer Fitting LC-2200-21 Installation Instructions, Document CI-LC-2200-21, Rev B, dated August 26, 2005;

(v) Lake Central Air Services Stabilizer Fitting LC-2200-21 Maintenance Manual Supplement, Document MS-LC-2200-21, Rev B, dated August 26, 2005;

(vi) XLS Company, LLC Report XLS-2-2200-21-500, Installation Instructions for XLS Co., LLC Horizontal Stabilizer Support Fitting System for Colonial C-1, Colonial C-2, Lake LA-4, Lake LA-4A, Lake-4P, and Lake LA-4-200 Aircraft, Revision B, dated November 18, 2005; and

(vii) XLS Company, LLC Report XLS-2-2200-21-ICA, Instructions for Continued Airworthiness for XLS Co., LLC Horizontal Stabilizer Support Fitting System for Colonial C-1, Colonial C-2, Lake LA-4, Lake LA-4A, Lake-4P, and Lake LA-4-200 Aircraft, dated October 15, 2005.

(4) The following service information was approved for IBR on July 8, 2005 (70 FR 33820, June 10, 2005):

(i) Revo Inc. Service Bulletin B-78, dated April 3, 1998.

(ii) Reserved.

(5) For Revo, Incorporated service information identified in this AD, contact Revo, Incorporated, 1396 Grandview Boulevard, Kissimmee, FL 34744; telephone: (407) 847-8080; email: support@teamlake.com; Internet: none.

(6) For Lake Central Air Services service information identified in this AD, contact Lake Central Air Services, Muskoka Airport, R.R. #1, Gravenhurst, Ontario, Canada P1P 1R1; telephone: (705) 687-4343; email: akecent@muskoka.com; Internet: www.lakecentral.com.

(7) For XLS Co. service information identified in this AD, contact Robert L. Copeland, 418B Bartow Municipal Airport, Bartow, FL 33830; FAA Aerospace Engineer (Hal Horsburgh), telephone: (404) 474-5553.

(8) You may view this service information at FAA, Small Airplane Directorate, 901 Locust St., Kansas City, Missouri 64106. For information on the availability of this material at the FAA, call (816) 329-4148.

(9) You may view this service information that is incorporated by reference at the National Archives and Records Administration (NARA). For information on the availability of this material at NARA, call 202-741-6030, or go to: http://www.archives.gov/federal-register/cfr/ibr-locations.html.

Appendix 1 to AD 2013-08-14

INSPECTION REPORT for Revo, Incorporated Models COLONIAL C-1, COLONIAL C-2, LAKE LA-4, LAKE LA-4A, LAKE LA-4P, and LAKE LA-4-200 Airplanes

BILLING CODE 4910-13-P

Issued in Kansas City, Missouri, on April 12, 2013.
Earl Lawrence,
Manager, Small Airplane Directorate, Aircraft Certification Service.

[FR Doc. 2013-10758 Filed 5-8-13; 8:45 am]

BILLING CODE 4910-13-C